DEPARTMENT OF TRANSPORTATION

Federal Aviation Administration

14 CFR Part 39

[Docket No. 2002-SW-40-AD; Amendment 39-12896; AD 2002-15-51]

RIN 2120-AA64

Airworthiness Directives; Sikorsky Aircraft Corporation Model S76A, B, and C Helicopters

AGENCY: Federal Aviation Administration, DOT.

ACTION: Final rule; request for comments.

SUMMARY: This document publishes in the Federal Register an amendment adopting Airworthiness Directive (AD) 2002-15-51, sent previously to all known U.S. owners and operators of the specified Sikorsky Aircraft Corporation (Sikorsky) helicopters by individual letters. This AD requires, before further flight, identifying and removing any main rotor blade (blade) that has been damaged by lightning and any blade with an unclear service history. This AD is prompted by the failure of a blade due to lightning strike damage. The actions specified by this AD are intended to prevent failure of a blade and subsequent loss of control of the helicopter.

DATES: Effective October 18, 2002, to all persons except those persons to whom it was made immediately effective by Emergency AD 2002-15-51, issued on July 26, 2002, which contained the requirements of this amendment.

The incorporation by reference of certain publications listed in the regulations is approved by the Director of the Federal Register as of October 18, 2002.

Comments for inclusion in the Rules Docket must be received on or before December 2, 2002.

ADDRESSES: Submit comments in triplicate to the Federal Aviation Administration (FAA), Office of the Regional Counsel, Southwest Region, Attention: Rules Docket No. 2002-SW-40-AD, 2601 Meacham Blvd., Room 663, Fort Worth, Texas 76137. You may also send comments electronically to the Rules Docket at the following address: 9-asw-adcomments@faa.gov.

The applicable service information may be obtained from Sikorsky Aircraft Corporation, Attn: Manager, Commercial Tech Support, 6900 Main Street, Stratford, Connecticut 06614, phone (203) 386-3001, fax (203) 386-5983. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Richard Noll, Aviation Safety Engineer, Boston Aircraft Certification Office, 12 New England Executive Park, Burlington, MA 01803, telephone (781) 238-7160, fax (781) 238-7199.

SUPPLEMENTARY INFORMATION: On July 26, 2002, the FAA issued Emergency AD 2002-15-51, for the specified Sikorsky model helicopters, which requires, before further flight, reviewing the blade service records and identifying and removing any blade damaged by lightning or any blade with an unclear service history. That action was prompted by the failure of a blade due to lightning strike damage. This condition, if not corrected, could result in blade failure and subsequent loss of control of the helicopter.

The FAA has reviewed Sikorsky Alert Service Bulletin No. 76-65-55A, dated July 25, 2002 (ASB). The ASB specifies reviewing the component log cards or, if necessary, other maintenance and operational records or the service history to determine if a blade has been damaged by a lightning strike, either in flight or on the ground. If the records indicate that a blade has been damaged by a lightning strike, the ASB specifies removing it from service before the next flight. If the service history cannot be determined, the ASB specifies removing the blade before the next flight.

Since the unsafe condition described is likely to exist or develop on other specified model helicopters of these same type designs, the FAA issued Emergency AD 2002-15-51 to prevent failure of a blade and subsequent loss of control of the helicopter. The AD requires the following before further flight:

• Reviewing the records for damage to a blade due to a lightning strike.

• Removing any blade that has been damaged by lightning.

• Removing any blade if the blade service history cannot be determined.

• Removing any blade with lightning strike damage.

The actions must be accomplished in accordance with the ASB described previously. The short compliance time involved is required because the previously described critical unsafe condition can adversely affect the structural integrity and controllability of the helicopter. Therefore, reviewing the records for lightning strike damage, removing any blade damaged by lightning, and removing any blade if the blade service history is unclear are required before further flight, and this AD must be issued immediately.

Since it was found that immediate corrective action was required, notice and opportunity for prior public comment thereon were impracticable and contrary to the public interest, and good cause existed to make the AD effective immediately by individual letters issued on July 26, 2002, to all known U.S. owners and operators of the specified Sikorsky model helicopters. These conditions still exist, and the AD is hereby published in the Federal Register as an amendment to 14 CFR 39.13 to make it effective to all persons.

The FAA estimates that this AD will affect 150 helicopters of U.S. registry and will take approximately 2 work hours per helicopter to accomplish the required actions at an average labor rate of $60 per work hour. Required parts will cost approximately $102,640 per helicopter. Based on these figures, the total cost impact of the AD on U.S. operators is estimated to be $15, 414,000.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2002-SW-40-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-15-51 Sikorsky Aircraft Corporation: Amendment 39-12896. Docket No. 2002-SW-40-AD.

Applicability: Model S-76A, B, and C helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Required before further flight, unless accomplished previously.

To prevent failure of a main rotor blade (blade) and subsequent loss of control of the helicopter, accomplish the following:

(a) Review the blade service records and other records in accordance with the Accomplishment Instructions, paragraphs 3.A.(1), (2), and (3), of Sikorsky Aircraft Corporation Alert Service Bulletin No. 76-65-55A, dated July 25, 2002, for evidence of damage to a blade due to a lightning strike. Before further flight, remove any blade identified as having been damaged by lightning.

(b) Remove blades, serial number A086-00167, 00429, 00798, 00999, 01165, 01168, 01291, and 02504, which are known to have sustained lightning damage.

(c) If the blade service history cannot be determined, remove the blade from service before further flight.

(d) After the effective date of this AD, should a blade be subjected to lightning strike damage, remove the blade from service before the next flight.

(e) An alternative method of compliance or adjustment of the compliance time that provides an acceptable level of safety may be used if approved by the Manager, Boston Aircraft Certification Office (ACO), FAA. Operators shall submit their requests through an FAA Principal Maintenance Inspector, who may concur or comment and then send it to the Manager, Boston ACO. Blades removed from service in accordance with this AD may be returned to service under a process approved by the Manager, Boston ACO.

Note 2: Information concerning the existence of approved alternative methods of compliance with this AD, if any, may be obtained from the Boston ACO.

(f) Special flight permits will not be issued.

(g) Reviewing the blades service records and other records shall be done in accordance with the Accomplishment Instructions, paragraphs 3.A.(1), (2), and (3) of Sikorsky Aircraft Corporation Alert Service Bulletin No. 76-65-55A, dated July 25, 2002. This incorporation by reference was approved by the Director of the Federal Register in accordance with 5 U.S.C. 552(a) and 1 CFR part 51. Copies may be obtained from Sikorsky Aircraft Corporation, Attn: Manager, Commercial Tech Support, 6900 Main Street, Stratford, Connecticut 06614, phone (203) 386-3001, fax (203) 386-5983. Copies may be inspected at the FAA, Office of the Regional Counsel, Southwest Region, 2601 Meacham Blvd., Room 663, Fort Worth, Texas; or at the Office of the Federal Register, 800 North Capitol Street, NW., suite 700, Washington, DC.

(h) This amendment becomes effective on October 18, 2002, to all persons except those persons to whom it was made immediately effective by Emergency AD 2002-15-51, issued July 26, 2002, which contained the requirements of this amendment.

Issued in Fort Worth, Texas, on September 18, 2002.
Eric D. Bries,
Acting Manager, Rotorcraft Directorate, Aircraft Certification Service.

[FR Doc. 02-24994 Filed 10-2-02; 8:45 am]

BILLING CODE 4910-13-P